DEPARTMENT OF HEALTH AND HUMAN SERVICES

Health Resources and Services Administration

Announcement of Grant Awards

AGENCY: Health Resources and Services Administration (HRSA), HHS.

ACTION: Announcement of grant awards.

SUMMARY: The Office of Rural Health Policy (ORHP), HRSA is awarding the following grants to the States, as authorized. Section 1820 of the Social Security Act authorized the Medicare Rural Hospital Flexibility Program (MRHFP). Reauthorization is pending. The appropriation for this program is provided in Public Law 108-7 (Consolidated Appropriations Resolution, 2003). The purpose of this notice is to announce the grant awards. The grant year began on September 1, 2003.

Medicare Rural Hospital Flexibility Program Awards (CFDA# 93.241). These grants allow each State to designate a focal point of contact for this program. The MRHFP helps sustain the rural healthcare infrastructure, with the Critical Access Hospital (CAH) as the hub of an organized system of care (in those communities where they exist), through the mechanisms of the Flex program. These mechanisms include the State Rural Health Plan (SRHP), CAHs, networks, Quality Improvement and EMS integration initiatives. Additionally, MRHFP must foster the growth of collaborative rural delivery systems across the continuum of care at the community level with appropriate external relationships for referral and support.

The following grantees have received awards for the first year of a 5-year project period.

• AL—Alabama Department of Public Health, $480,000

• AK—State of Alaska Department of Health & Social Services, $544,000

• AZ—University of Arizona, $573,000

• AR—Arkansas Department of Health, $421,000

• CA—California State Department of Public Health, Department of Health Services, $326,200

• CO—Colorado Rural Health Center, $529,200

• FL—Florida Department of Health, $550,000

• GA—Georgia Department of Community Health, $585,000

• HI—Hawaii State Department of Health, $543,000

• ID—Idaho State Department of Health & Welfare, $474,890

• IL—Illinois Department of Public Health, $668,000

• IN—Indiana State Department of Health, $526,000

• IA—Iowa Department of Public Health, $465,000

• KS—Kansas State Department of Health and Environment, $620,000

• KY—University of Kentucky, Research Foundation, $583,800

• LA—Louisiana Department of Health and Hospitals, $385,000

• ME—Maine Department of Human Services, $435,000

• MA—Massachusetts Department of Public Health, $223,340

• MI—Michigan Department of Community Health, $513,600

• MN—Minnesota Department of Health, $685,000

• MS—Mississippi State Department of Health, $395,000

• MO—Missouri Department of Health, $407,750

• MT—Montana Department of Public Health and Human Services, $660,000

• NE—State of Nebraska, $630,000

• NV—University of Nevada, Reno, $578,000

• NH—State of New Hampshire, $365,500

• NM—State of New Mexico, $231,580

• NY—Health Research, Inc., New York, $421,250

• NC—North Carolina Department of Health and Human Services, $574,000

• ND—University of North Dakota, $655,000

• OH—State of Ohio—Department of Health, $600,000

• OK—Oklahoma State University, Center for Health Sciences, $614,000

• OR—Oregon Health & Sciences University, $653,850

• PA—Pennsylvania State Department of Public Health & Human Services, $357,390

• SC—South Carolina State Office of Rural Health, Inc., $452,560

• SD—South Dakota State Department of Health, $660,000

• TN—Tennessee State Department of Health, $517,000

• TX—Office of Rural Community Affairs, Texas, $615,000

• UT—Utah Department of Health, $371,000

• VT—Vermont State Department of Health, $234,250

• VA—Virginia State Department of Health, $352,000

• WA—Washington State Department of Health, $585,000

• WV—West Virginia Department of Health & Human Resources, $485,700

• WI—University of Wisconsin—Madison, $651,145

• WY—Wyoming State Department of Health, $379,300

FOR FURTHER INFORMATION CONTACT: Contact Forest Calico, Project Officer, Medicare Rural Hospital Flexibility Program, Office of Rural Health Policy, HRSA, 5600 Fishers Lane, Room 9A-55, Rockville, MD 20857, (301) 443-0835.

Dated: September 17, 2003.
Elizabeth M. Duke,
Administrator.

[FR Doc. 03-24490 Filed 9-26-03; 8:45 am]

BILLING CODE 4165-15-P